DEPARTMENT OF COMMERCE

National Institute of Standards and Technology

National Conference on Weights and Measures 99th Interim Meeting

AGENCY: National Institute of Standards and Technology, Commerce.

ACTION: Notice.

SUMMARY: The 99th Interim Meeting of the National Conference on Weights and Measures (NCWM) will be held in Albuquerque, New Mexico, January 19 to 22, 2014. This notice contains information about significant items on the NCWM Committee agendas, but does not include all agenda items. As a result, the items are not consecutively numbered.

DATES: The meeting will be held January 19 to 22, 2014.

ADDRESSES: This meeting will be held at the Hotel Albuquerque, 800 Rio Grande Boulevard, NW., Albuquerque, NM 87104.

FOR FURTHER INFORMATION CONTACT: Ms. Carol Hockert, Chief, NIST, Office of Weights and Measures, 100 Bureau Drive, Stop 2600, Gaithersburg, MD 20899-2600. You may also contact Ms. Hockert at (301) 975-5507 or by email at carol.hockert@nist.gov. The meetings are open to the public, but a paid registration is required. Please see NCWM Publication 15 “Interim Meeting Agenda” (www.ncwm.net) to view the meeting agendas, registration forms, and hotel reservation information.

SUPPLEMENTARY INFORMATION: Publication of this notice on the NCWM's behalf is undertaken as a public service; NIST does not endorse, approve, or recommend any of the proposals or other information contained in this notice or in the publications of the NCWM.

The NCWM is an organization of weights and measures officials of the states, counties, and cities of the United States, federal agencies, and representatives from the private sector. These meetings bring together government officials and representatives of business, industry, trade associations, and consumer organizations on subjects related to the field of weights and measures technology, administration, and enforcement. NIST participates to encourage cooperation between federal agencies and the states in the development of legal metrology requirements. NIST also promotes uniformity among the states in laws, regulations, methods, and testing equipment that comprise the regulatory control of commercial weighing and measuring devices, packaged goods, and other trade and commerce issues.

The following are brief descriptions of some of the significant agenda items that will be considered along with other issues at the NCWM Interim Meeting. Comments will be taken on these and other issues during several public comment sessions. At this stage, the items are proposals. This meeting also includes work sessions in which the Committees may also accept comments, and where recommendations for NCWM consideration and possible adoption at its 2014 Annual Meeting will be developed. The Committees may withdraw or carryover items that need additional development. The 99th Annual Meeting of the NCWM will be held July 13 to 17, 2014, at the Westin Book Cadillac Detroit, 1114 Washington Boulevard, Detroit, MI 48226.

Some of the items listed below provide notice of projects under development by groups working to develop specifications, tolerances, and other requirements for devices used in the retail sales of engine fuels and the establishment of approximate gallon and liter equivalents to diesel fuel that would be used in marketing both compressed and liquefied natural gas. Also included is a notice about efforts to establish a method of sale for pressurized containers that utilize bag-on-valve technology. These notices are intended to make interested parties aware of these development projects and to make them aware that reports on the status of the project will be given at the Interim Meeting. The notices are also presented to invite the participation of manufacturers, experts, consumers, users, and others who may be interested in these efforts.

The Specifications and Tolerances Committee (S&T Committee) will consider proposed amendments to NIST Handbook 44, “Specifications, Tolerances, and other Technical Requirements for Weighing and Measuring Devices.” Those items address weighing and measuring devices used in commercial applications, that is, devices that are used to buy from or sell to the public or used for determining the quantity of product sold among businesses. Issues on the agenda of the NCWM Laws and Regulations Committee (L&R Committee) relate to proposals to amend NIST Handbook 130, “Uniform Laws and Regulations in the area of Legal Metrology and Engine Fuel Quality” and NIST Handbook 133, “Checking the Net Contents of Packaged Goods.”

NCWM Specifications and Tolerances Committee

The following items are proposals to amend NIST Handbook 44:

General Code

Item 310-2 G.S.5.6. Recorded Representations.

A variety of commercial weighing and measuring devices are required to provide paper receipts for consumers at the end of a transaction. These receipts provide important information for consumers (e.g., seller identity, date, product identity, and amount delivered, along with the unit price and total price of the transaction). Sometimes receipts include details of transaction that are often not readily apparent to consumers at the time of the transaction (e.g., such as when a point of sale system in a grocery store deducts for the tare weight on a package of apples). These documents help consumers understand a transaction and reconcile the transaction with billing invoices or credit card bills in the future. Detailed receipts are especially important in transactions where the customer is often not present, such as when a delivery of heating fuel is made when the consumer is not at home. Receipts describing transaction details help prevent fraud and provide valuable protections for buyers and sellers alike. This item is a proposal to revise the General Code requirement to allow sellers to offer consumers the choice of receiving receipts via digital communications such as email or online account access.

Scales

Item 320-1 S.2.1.6. Combined Zero-Tare Key.

Some manufacturers of high-precision balances that are typically used by precious metal and gem buyers have built balances that have a single pushbutton that combines two functions: (1) Function used to keep the balance on zero and (2) the function used to deduct for the tare weight of a tray or weighing pan. Regulations adopted by most states prohibit the use of weighing devices with this type of feature in direct buying and selling transactions (i.e., where the customer is present). Consumers in direct sale transactions have a legal right under the laws of most states to view the balance indications and weighing operation to prevent fraud. Most states also require scales and balances to automatically indicate that tare has been deducted. Such features benefit both the consumer and the device user since the indication helps to ensure the accuracy of the transaction. Because many devices with the combined zero-tare key feature have found their way into direct sale applications, some manufacturers are now requesting a change to the requirement based on the assumption that there is no evidence that a combined feature key on some balances has led to an increase in fraud in these types of transactions. This item includes a proposal to amend existing regulations to allow scales and balances to be equipped with a combined “zero/tare” pushbutton if it is designed to operate within narrow limits and there are indications or controls built into the device to provide consumers with information about the zero condition of the scale or balance.

Liquefied Petroleum Gas (LPG) and Anhydrous Ammonia Measuring Devices

Item 332-1 Proposed amendments to device specifications and user requirements. This item includes several proposals that will amend the specifications and other requirements for liquid measuring devices used to sell LPG and Anhydrous Ammonia to require electronic measuring devices to be equipped with the means to retain detailed transaction information in the event of a power failure. Another proposal would require the posting of unit price and product identity adjacent to stationary devices in retail outlets. In addition, the proposed specifications would require that measuring devices used in retail applications to fill motor vehicles have a zero-setback interlock in operation to ensure that the product indications would be returned to zero following each completed transaction (note: zero-setback interlocks have been required to be provided on retail gasoline and diesel dispensers for more than 50 years). Another proposal would add requirements for measuring devices used in wholesale and contractual transactions for unit price and product identity posting as well as special requirements for devices used to sell the same products at different unit prices (e.g., discount unit price for sales where the customer purchases an optional car wash).

Mass Flow Meters

Item 337-1 (and others): Appendix D—Definitions: Diesel Liter and Diesel Gallon Energy Equivalents for Liquefied and Compressed Natural Gas.

In response to a request from a coalition of natural gas providers, the NCWM adopted Compressed Natural Gas (CNG) “equivalents” to a liter and gallon of gasoline in 1994. At that time those equivalents were based on the “approximate” value of energy in a gallon of gasoline and were recommended by the CNG industry to promote broader acceptance and use of CNG as a vehicle fuel base on value. The “Gasoline Liter/Gallon Equivalents” were intended to provide a means for consumers to make accurate value comparisons between gasoline and CNG and to facilitate fuel economy comparisons. In a number of instances since the adoption of these “equivalents,” some state weights and measures officials and several CNG providers have expressed the concern that the energy equivalent values adopted in 1994 do not provide an accurate estimate of the true energy content of natural gas. Another concern with the 1994 “equivalents” is that the equivalents have not been reevaluated to ensure that they accurately correlate with the energy content of today's gasoline and gasoline-oxygenate blends or other alternative fuels such as E85. Consequently, many weights and measures officials are reluctant to consider adding other energy “equivalency” values for additional fuels unless some mechanism is established to ensure that all of these energy equivalency values are routinely updated to reflect the current energy content (i.e., Joules/BTUs) of gasoline and diesel fuels and various blends of these products with alternative fuels. The need for such a mechanism is important considering the many blends of fuels that are currently in the marketplace and others that are anticipated to enter the fuel arena in the future (e.g., 15% or higher ethanol blends with gasoline and biodiesel blends greater than 5%). These new proposals would establish a “diesel liter equivalent (DLE)” and a “diesel gallon equivalent (DGE)” and specify equivalent mass values for these units when they are used in retail vehicle refueling applications. The proponents of these proposals indicate that the purpose of these units is to educate consumers that a DLE or DGE of “compressed” or “liquefied” natural gas contains approximately the same amount of energy they would receive if they purchased a liter or gallon of diesel fuel. Most sellers of these products believe that adoption and use of the DLE or DGE in retail fuel sales would make it easier for consumers to make price, value, and fuel economy comparisons between an energy “equivalent” liter or gallon of compressed natural gas and everyday diesel fuel. See also Items 337-2, 337-3, 337-4, and 337-5 on the Specifications and Tolerances Committee Agenda and Items 232-2 and 232-3 in the Laws and Regulations Committee Agenda regarding proposed methods of sale for the DLE and DGE.

NCWM Laws and Regulations Committee (L & R Committee)

The following items are proposals to amend NIST Handbook 130 or NIST Handbook 133:

NIST Handbook 130—Uniform Regulation for the Method of Sale of Commodities

Item 231-2: Section 10.3. Aerosols and Similar Pressurized Containers.

This item includes a proposal to establish a method of sale for pressurized containers that utilize Bag-on-Valve (BOV) technology that have their net content declarations in terms of fluid volume. Unlike most aerosol containers, packages fitted with BOV technology do not expel a propellant with the product when the valve is activated. Currently, under the Uniform Packaging and Labeling Regulation (UPLR) adopted by many states, products sold in aerosol or similar pressurized containers must be offered for sale by weight. BOV packaging, which has been in the marketplace for many years, is used to sell the same products sold in aerosol containers (e.g., sunscreen, wound wash, shaving cream, and car-care products). Because BOV containers (with their net contents declared in fluid volume) are used to sell the same type of products dispensed from aerosol containers (with their net contents declared by weight), consumers are unable to make value comparisons between similar products. The L&R Committee is aware that most countries in the European Union require aerosol and pressurized containers to display net contents in terms of fluid volume, but other countries permit these types of containers to display net contents declarations in terms of both net weight and volume.

Dated: December 19, 2013.
Willie E. May,
Associate Director for Laboratory Programs.

[FR Doc. 2013-31092 Filed 12-26-13; 8:45 am]

BILLING CODE 3510-13-P